DEPARTMENT OF VETERANS AFFAIRS

[OMB Control No. 2900-0067]

Agency Information Collection (Application for Automobile or Other Conveyance and Adaptive Equipment): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 4, 2011.

ADDRESSES: Submit written comments on the collection of information through http://www.Regulations.gov or to VA's OMB Desk Officer, OMB Human Resources and Housing Branch, New Executive Office Building, Room 10235, Washington, DC 20503 (202) 395-7316. Please refer to “OMB Control No. 2900-0067” in any correspondence.

FOR FURTHER INFORMATION CONTACT: Denise McLamb, Enterprise Records Service (005R1B), Department of Veterans Affairs, 810 Vermont Avenue, NW., Washington, DC 20420, (202) 461-7485, FAX (202) 461-7485 or e-mail denise.mclamb@va.gov. Please refer to “OMB Control No. 2900-0067.”

SUPPLEMENTARY INFORMATION: Title: Application for Automobile or other Conveyance and Adaptive Equipment (under 38 U.S.C. 3901-3904), VA Form 21-4502.

OMB Control Number: 2900-0067.

Type of Review: Extension of a currently approved collection.

Abstract: Veterans, servicepersons and their survivors complete VA Form 21-4502 to apply for automobile or other conveyance allowance, and reimbursement for the cost and installation of adaptive equipment. VA uses the information to determine the claimant's eligibility for such benefits.

An agency may not conduct or sponsor, and a person is not required to respond to a collection of information unless it displays a currently valid OMB control number. The Federal Register Notice with a 60-day comment period soliciting comments on this collection of information was published on July 25, 2011, at page 44402.

Affected Public: Individuals or households.

Estimated Annual Burden: 388.

Estimated Average Burden per Respondent: 15 minutes.

Frequency of Response: One-time.

Estimated Number of Respondents: 1,552.

Dated: September 29, 2011.
By direction of the Secretary.
Denise McLamb,
Program Analyst, Enterprise Records Service.

[FR Doc. 2011-25588 Filed 10-4-11; 8:45 am]

BILLING CODE 8320-01-P